DEPARTMENT OF COMMERCE

National Institute of Standards and Technology

Visiting Committee on Advanced Technology

AGENCY: National Institute of Standards and Technology, Department of Commerce.

ACTION: Notice of public meeting.

SUMMARY: Pursuant to the Federal Advisory Committee Act (5 U.S.C., App.), notice is hereby given that the Visiting Committee on Advanced Technology (VCAT), National Institute of Standards and Technology (NIST), will meet Tuesday, February 2, 2010, from 8:30 a.m. to 5 p.m. and Wednesday, February 3, 2010, from 8:30 a.m. to 11:30 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The agenda will include an update on NIST, a presentation on the strengthened NIST role in documentary standards, an overview of the NIST organizational structure, a discussion on future VCAT meeting topics, preparation and feedback sessions on draft recommendations for the 2009 VCAT Annual Report, and laboratory tours. The agenda may change to accommodate Committee business. The final agenda will be posted on the NIST Web site at http://www.nist.gov/director/vcat/agenda.htm.

DATES: The VCAT will meet on Tuesday, February 2, 2010, from 8:30 a.m. to 5 p.m. and Wednesday, February 3, 2010, from 8:30 a.m. to 11:30 a.m.

ADDRESSES: The meeting will be held in the Portrait Room, Administration Building, at NIST, Gaithersburg, Maryland. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's e-mail address is stephanie.shaw@nist.gov.

SUPPLEMENTARY INFORMATION: Individuals and representatives of organizations who would like to offer comments and suggestions related to the Committee's affairs are invited to request a place on the agenda. On February 2, 2010, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at 301-216-0529 or electronically by e-mail to gail.ehrlich@nist.gov.

All visitors to the NIST site will have to pre-register to be admitted. Please submit your name, time of arrival, e-mail address and phone number to Stephanie Shaw no later than Friday, January 29, 2010, and she will provide you with instructions for admittance. Ms. Shaw's e-mail address is stephanie.shaw@nist.gov and her phone number is (301) 975-2667.

Dated: December 22, 2009.
Marc Stanley,
Acting Deputy Director.

[FR Doc. E9-31152 Filed 12-31-09; 8:45 am]

BILLING CODE 3510-13-P